DEPARTMENT OF EDUCATION

[Docket No. ED-2020-SCC-0026]

Agency Information Collection Activities; Submission to the Office of Management and Budget for Review and Approval; Comment Request; Vocational Rehabilitation Financial Report (RSA-17)

AGENCY: Office of Special Education and Rehabilitative Services (OSERS), Department of Education (ED).

ACTION: Notice.

SUMMARY: In accordance with the Paperwork Reduction Act of 1995, ED is proposing a revision of an existing information collection.

DATES: Interested persons are invited to submit comments on or before July 1, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact David Steele, 202-245-6520.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Vocational Rehabilitation Financial Report (RSA-17)

OMB Control Number: 1820-0017

Type of Review: A revision of an existing information collection

Respondents/Affected Public: State, Local, and Tribal Governments

Total Estimated Number of Annual Responses: 312

Total Estimated Number of Annual Burden Hours: 10,193

Abstract: The Vocational Rehabilitation Financial Report (RSA-17) collects data on the State Vocational Rehabilitation Services (VR) program activities for agencies funded under the Rehabilitation Act of 1973, as amended (Rehabilitation Act). The RSA-2 captures the Federal and non-Federal administrative expenditures for the VR program; Services to Groups Federal and non-Federal expenditures; American Job Center Infrastructure Federal and non-Federal expenditures; receipt, use and/or transfer of VR program income; financial data necessary to ensure Federal award requirements are met (e.g., match, maintenance of effort, and pre-employment transition services reservation of funds); and obligations and disbursements that occurred during the period of the award. The basic data comprising the RSA-17 are mandated by the Rehabilitation Act as specified in Section 101(a)(10)(D). Section 13 of the Rehabilitation Act requires the Commissioner of RSA to collect and report information to the Congress and the President through an Annual Report.

The substantive revisions to the form were necessary to: Add data elements in order to implement amendments to the Rehabilitation Act of 1973 (Rehabilitation Act) made by title IV of the Workforce Innovation and Opportunity Act (WIOA) (e.g., those related to services to groups and pre-employment transition services); add data elements necessitated by the VR program's role as a core program in the one stop service delivery system and the jointly administered requirements of title I of WIOA (e.g., those related to one-stop center infrastructure costs and reporting periods); incorporate VR program-specific financial data elements, previously reported on the SF-425, necessary to ensure VR agencies comply with program requirements (e.g., match and maintenance of effort); and remove RSA-2 data elements that duplicated data collected in the RSA-911 Case Service Report. As a result of the revisions to this form, VR agencies will no longer be required to submit SF-425 reports for the VR program beginning with the FFY 2021 grant awards. Difference noted above does not include the reduced burden resulting from VR agencies no longer having to submit these forms.

RSA changed the numbering of the form to the RSA-17. This will assist VR agencies in making a clear distinction between the previous RSA-2 form submitted annually and the RSA-17 form that is submitted quarterly. Additionally, this will make the numbering of the form consistent with RSA's numbering of other forms using the last digits of the Office of Management and Budget's Control Number, which is 17.

Dated: May 27, 2020.
Kate Mullan,
PRA Coordinator, Strategic Collections and Clearance, Governance and Strategy Division Office of Chief Data Officer.

[FR Doc. 2020-11700 Filed 5-29-20; 8:45 am]

BILLING CODE 4000-01-P